DEPARTMENT OF HEALTH AND HUMAN SERVICES

Centers for Disease Control and Prevention

Disease, Disability, and Injury Prevention and Control Special Emphasis Panel (SEP): Impact of Tic Disorders, Including Tourette Syndrome, in Youth, on Individuals, Families, and Communities, Funding Opportunity Announcement (FOA) DD09-004, Initial Review

In accordance with section 10(a)(2) of the Federal Advisory Committee Act (Pub. L. 92-463), the Centers for Disease Control and Prevention (CDC) announces the aforementioned meeting:

Time and Date: 10:30 a.m.-12:30 p.m., July 31, 2009 (Closed).

Place: Teleconference.

Status: The meeting will be closed to the public in accordance with provisions set forth in section 552b(c) (4) and (6), Title 5 U.S.C., and the Determination of the Director, Management Analysis and Services Office, CDC, pursuant to Public Law 92-463.

Matters To Be Discussed: The meeting will include the initial review, discussion, and evaluation of “Impact of Tic Disorders, Including Tourette Syndrome, in Youth, on Individuals, Families, and Communities, FOA DD09-004.”

Contact Person for More Information: Michael Dalmat, Scientific Review Administrator, CDC, 1600 Clifton Road, NE., Mailstop K92, Atlanta, GA 30333, Telephone (770) 488-6423.

The Director, Management Analysis and Services Office, has been delegated the authority to sign Federal Register notices pertaining to announcements of meetings and other committee management activities, for both CDC and the Agency for Toxic Substances and Disease Registry.

Dated: July 9, 2009.
Elaine L. Baker,
Director, Management Analysis and Services Office, Centers for Disease Control and Prevention.

[FR Doc. E9-16921 Filed 7-15-09; 8:45 am]

BILLING CODE 4163-18-P